DEPARTMENT OF LABOR

Employment and Training Administration

Proposed Information Collection Request for the Extension of the Individual Training Account Experiment; Extension With Changes of Approved Collection; Comment Request

AGENCY: Employment and Training Administration, Department of Labor.

ACTION: Notice.

SUMMARY: The U.S. Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments for a proposed extension with revisions to an approved information collection (OMB 1205-0441, expires November 30, 2009) to evaluate long-term impacts of participants in the Individual Training Account Experiment.

A copy of the proposed information collection request (ICR) can be obtained by contacting the office listed below in the addresses section of this notice or by accessing: http://www.doleta.gov/OMBCN/OMBControlNumber.cfm.

DATES: Written comments must be submitted to the office listed in the ADDRESSES section below on or before September 22, 2008.

ADDRESSES: Submit written comments to Janet Javar, Room N-5641, Employment and Training Administration, 200 Constitution Avenue, NW., Washington, DC 20210. Telephone number: 202-693-3677 (this is not a toll-free number). Fax: 202-693-2766. E-mail: javar.janet@dol.gov.

SUPPLEMENTARY INFORMATION: The Workforce Investment Act (WIA) of 1998 brought about substantial changes in the way training and other employment services are provided. WIA required workforce investment areas to establish Individual Training Accounts (ITAs), which provide vouchers or other related funding methods that customers can use to pay for training. ITAs are intended to empower customers to choose the training services they need and raise the accountability of states, local areas, and service providers for meeting these needs.

The ITA Experiment was conducted between June 1999 and September 2006. It was designed to test different approaches for managing customer choice in the administration of ITAs. States and local offices have a great deal of flexibility in deciding how much guidance to provide to customers in choosing WIA-funded training. The experiment tested three approaches that differed widely in both the resources made available to customers and the involvement of local counselors in guiding customer choice. The three approaches included a highly structured approach (in which customers were steered to the highest-return training options), a moderately guided approach, and a true voucher approach (in which customers were offered a lump sum and allowed to choose any state-approved training). The three approaches were tested through an experiment that randomly assigned new customers to one of the three ITA approaches. The advantages of randomly assigning customers are increased precision and accuracy in the impact estimates. ETA selected six grantees through a competitive process to participate in the evaluation. The experiment was conducted in Chicago, Illinois; Charlotte, North Carolina; Atlanta, Georgia; Phoenix, Arizona; Bridgeport, Connecticut; and Jacksonville, Florida. Intake began in 2001.

Findings from the initial evaluation of the ITA Experiment suggested that a longer-term follow-up was necessary in order to reach more definitive conclusions regarding the impacts and cost-effectiveness of the ITA approaches. For most ITA study participants, the initial data collection permitted examination of employment outcomes for 18 months following random assignment. At that time, a substantial number of ITA participants were still in training, so that the ultimate effects of the ITA approaches had not yet been completely realized. This extension of the evaluation examines the longer-term outcomes of ITA study participants, with a second follow-up survey administered between four and seven years after random assignment and with longer-term employment and earnings data, including updated unemployment insurance (UI) wage records.

This request for a second participant follow-up survey includes only minor modifications to the first follow-up survey (OMB 1205-0441). It collects the same critical information that can only be collected using survey data on the employment, training, and earnings experiences of the ITA study participants. The second follow-up survey and additional UI data collection are needed to examine a more extensive employment history for each ITA study participant and update the experimental estimates of net impacts and return-on-investment analyses for the three ITA approaches.

To determine the relative long-term impacts of different ITA approaches on training experiences and on labor market outcomes, updated state-administrative data and second follow-up survey data will be used. These data will make it possible to compare the outcomes of the three ITA approaches and evaluate their cost-effectiveness at three to five years after random assignment. These comparisons will be based on the experiences and outcomes of ITA customers, such as participation in education and training, employment and earnings, and participation in government support programs. These comparisons will yield estimates of the relative impacts of different ITA approaches on key outcomes in the long-term.

To compare the three ITA approaches, administrative and survey data to compute summary statistics, such as means, separately for each ITA approach will be used. For example, the percentage of ITA customers served by each approach that received training-related services will be computed and compared to how much training they received. This percentage will be compared across approaches to determine whether the different approaches vary in the amount and type of training that customers completed.

The evaluation findings can provide local workforce investment boards with guidance on possible modifications to their ITA programs. The goal of the experiment is to determine the relative long-term impacts and cost-effectiveness of different approaches to administering ITAs. The updated data collected from states and the second participant follow-up survey will provide critical information to make those assessments. The planned data collection efforts are therefore essential to evaluating the different ITA approaches tested in the experiment.

II. Review Focus

Data will be collected from study participants only once. The survey will provide the only source of long-term data for ITA customers at the six grantees on the following outcomes:

• Participation in education and training programs;

• Job search behavior after random assignment;

• Characteristics of post-training jobs; and

• Participation in government programs, including UI.

Therefore, if this second follow-up survey were not conducted, the evaluation would be unable to assess the impacts of different ITA approaches on these outcomes in the long-term.

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension of a currently approved collection with revisions.

Agency: Employment and Training Administration.

Title: Extension of the Evaluation of the Individual Training Account Experiment.

OMB Number: 1205-0441.

Affected Public: Individuals.

Total Respondents: 3,366.

Frequency: One time.

Total Responses: 3,366.

Average Time per Response: 30 minutes.

Estimated Total Burden Hours: 1,680 hours.

Total Burden Cost: $24,192.

Cite/Reference | Total respondents | Frequency | Average time per response (minutes) | Burden (hours)
ITA Follow-up survey | 3,366 | One time | 30 | 1,680
Totals | 3,366 |  |  | 1,680

The total burden cost represents 30 minutes to complete the survey multiplied by the number of completers (3,366 or 70 percent of the 4,800 sample targeted for the survey) and by an estimated average hourly wage of $14.40 per hour.

Comments submitted in response to this comment request will be summarized and/or included in the request for Office of Management and Budget approval of the information collection request; they will also become a matter of public record.

Signed in Washington, DC, this 16th day of July 2008.
Thomas M. Dowd,
Administrator, Office of Policy Development and Research Employment and Training Administration.

[FR Doc. E8-16666 Filed 7-21-08; 8:45 am]

BILLING CODE 4510-FN-P